DEPARTMENT OF VETERANS AFFAIRS

[OMB Control No. 2900-NEW]

Proposed Information Collection Activity: Proposed Collection (Statement in Support of Claim for Disability and Related Compensation Benefits Due to Exposure) Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on the information needed to assist claimants in obtaining evidence of radiation exposure during active duty military service.

DATES: Written comments and recommendations on the proposed collection of information should be received on or before June 16, 2014.

ADDRESSES: Submit written comments on the collection of information to Nancy J. Kessinger, Veterans Benefits Administration (20M35), Department of Veterans Affairs, 810 Vermont Avenue NW., Washington, DC 20420 or email: nancy.kessinger@va.gov. Please refer to “OMB Control No. 2900-NEW (Statement in Support of Claim for Disability and Related Compensation Benefits Due to Exposure) ” in any correspondence.

FOR FURTHER INFORMATION CONTACT: Nancy J. Kessinger at (202) 632-8924 or FAX (202) 632-8925.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Statement in Support of Claim for Disability and Related Compensation Benefits Due to Exposure Due to Exposure (VA Form 21-0964).

OMB Control Number: 2900-NEW.

Type of Review: New collection.

Abstract: VA will use the information collected on VA Form 21-0964 to gather information related to exposure. The form will be used to determine if a Veteran has been exposed for the purposes of benefits.

Affected Public: Individuals and households.

Estimated Annual Burden: 10,000 hours.

Estimated Average Burden per Respondent: 20 minutes.

Frequency of Response: One time.

Estimated Number of Respondents: 6,667.

Dated: April 11, 2014.
By direction of the Secretary.
Crystal Rennie,
Department Clearance Officer, Department of Veterans Affairs.

[FR Doc. 2014-08633 Filed 4-15-14; 8:45 am]

BILLING CODE P